FEDERAL MARITIME COMMISSION

Ocean Transportation Intermediary License Reissuances

The Commission gives notice that the following Ocean Transportation Intermediary license has been reissued pursuant to section 19 of the Shipping Act of 1984 (46 U.S.C. 40101).

License No.: 024003N.

Name: Concord Atlantic Inc. dba Concord Atlantic Shipping.

Address: 10095 Washington Blvd., North, Suite 211, Laurel, MD.

Date Reissued: August 16, 2013.

James A. Nussbaumer,
Deputy Director, Bureau of Certification and Licensing.

[FR Doc. 2013-25783 Filed 10-29-13; 8:45 am]

BILLING CODE 6730-01-P